DEPARTMENT OF HEALTH AND HUMAN SERVICES

Office of the National Coordinator for Health Information Technology; Announcement of Requirements and Registration for Reducing Cancer Among Women of Color Challenge

AGENCY: Office of the National Coordinator for Health Information Technology, HHS.

Award Approving Official: Farzad Mostashari, National Coordinator for Health Information Technology.

ACTION: Notice.

SUMMARY: Disparities in prevention, early treatment, and final outcomes exist across the spectrum of cancer types and are often amplified in women's health when we look at breast cancer and gynecologic cancers—primarily cervical, uterine, and ovarian cancer. With over 300,000 new cases combined and 68,000 deaths annually, the impact that these cancers have on the United States cannot be overstated. While the incidence and prevalence of these malignancies is as socially and geographically diverse as our nation, they strike minority and underserved women with a disproportionate lethality caused by many factors.

In particular, the prevention strategies for these cancers cross the gambit of social and technical modalities from radiology (e.g., mammography) to advanced immunotherapy and vaccination (e.g., HPV vaccine). The clinical communities that treat and care for these patients is, likewise, among the broadest group of clinical disciplines that can be aggregated—from primary care and the surgical specialties to some of the most cutting-edge radiation oncology and medical oncology groups. But more importantly, any failure of our healthcare system to adequately prevent one of these cancers is most often a failure to address a myriad of social challenges, from education and access to health literacy and community support.

The “Reducing Cancer Among Women of Color Challenge” is a call to developers to create a mobile device-optimized tool that engages and empowers women to improve the prevention and treatment of breast, cervical, uterine, and ovarian cancer in underserved and minority communities and interfaces with provider electronic health records (EHRs).

The statutory authority for this challenge competition is Section 105 of the America COMPETES Reauthorization Act of 2010 (Pub. L. 111-358).

DATES: Effective on August 23, 2012. Challenge submission period ends February 5, 2013, 11:59 p.m. ET.

FOR FURTHER INFORMATION CONTACT: Adam Wong, 202-720-2866.

SUPPLEMENTARY INFORMATION:

Subject of Challenge Competition

This challenge is a multidisciplinary call to innovators and developers to create a mobile device-optimized tool that engages and empowers women to improve the prevention and treatment of breast, cervical, uterine, and ovarian cancer in underserved and minority communities and interfaces with provider electronic health records (EHRs). The tool will achieve the following:

• Provide general information regarding preventive and screening services for breast and gynecologic cancers—including, but not limited to, benefits, timing, scheduling, and location.

• Allow for the interface with patient health records or provider-sponsored patient portals to provide specific reminders and trigger electronic health record-based clinical decision support regarding the timing of preventive services.

• Support the storage, viewing, and exchange of complex patient care plans. In particular, the tool will help strengthen communication among provider care teams, possibly spread out across large geographic locations, to afford optimal remote follow-up (e.g., be able to send patient information to electronic health records via Direct).

• Support patient engagement and care giver support to help patients and/or their caregivers keep track of complex care plans, such as connections to community health workers, promotores de salud, or patient navigators.

• Be optimized for use on mobile devices.

Eligibility Rules for Participating in the Competition

To be eligible to win a prize under this challenge, an individual or entity—

(1) Shall have registered to participate in the competition under the rules promulgated by the Office of the National Coordinator for Health Information Technology.

(2) Shall have complied with all the requirements under this section.

(3) In the case of a private entity, shall be incorporated in and maintain a primary place of business in the United States, and in the case of an individual, whether participating singly or in a group, shall be a citizen or permanent resident of the United States.

(4) May not be a Federal entity or Federal employee acting within the scope of their employment.

(5) Shall not be an HHS employee working on their applications or submissions during assigned duty hours.

(6) Shall not be an employee of Office of the National Coordinator for Health IT.

(7) Federal grantees may not use Federal funds to develop COMPETES Act challenge applications unless consistent with the purpose of their grant award.

(8) Federal contractors may not use Federal funds from a contract to develop COMPETES Act challenge applications or to fund efforts in support of a COMPETES Act challenge submission.

An individual or entity shall not be deemed ineligible because the individual or entity used Federal facilities or consulted with Federal employees during a competition if the facilities and employees are made available to all individuals and entities participating in the competition on an equitable basis.

Entrants must agree to assume any and all risks and waive claims against the Federal Government and its related entities, except in the case of willful misconduct, for any injury, death, damage, or loss of property, revenue, or profits, whether direct, indirect, or consequential, arising from my participation in this prize contest, whether the injury, death, damage, or loss arises through negligence or otherwise.

Entrants must also agree to indemnify the Federal Government against third party claims for damages arising from or related to competition activities.

Registration Process for Participants

To register for this challenge participants should either:

Access the www.challenge.gov Web site and search for the “Reducing Cancer Among Women of Color Challenge”.

Access the ONC Investing in Innovation (i2) Challenge Web site at:

○ http://www.health2con.com/devchallenge/challenges/onc-i2-challenges/

○ A registration link for the challenge can be found on the landing page under the challenge description

Amount of the Prize

First Prize: $85,000

Second Prize: $10,000

Third Prize: $5,000

Awards may be subject to Federal income taxes and HHS will comply with IRS withholding and reporting requirements, where applicable.

Payment of the Prize

Prize will be paid by contractor.

Basis Upon Which Winner Will Be Selected

The review panel will make selections based upon the following criteria:

• Patient engagement

• Quality and accessibility of information

• Targeted and actionable information

• Links to online communities and/or social media

• Innovativeness and usability

• Non-English language availability

In order for an entry to be eligible to win this Challenge, it must meet the following requirements:

1. General—Contestants must provide continuous access to the app, a detailed description of the app, instructions on how to install and operate the app, and system requirements required to run the app (collectively, “Submission”).

2. No HHS or ONC logo—The app must not use HHS' or ONC's logo or official seal in the Submission, and must not claim endorsement.

3. Section 508 Compliance—Contestants must acknowledge that they understand that, as a pre-requisite to any subsequent acquisition by FAR contract or other method, they may be required to make their proposed solution compliant with Section 508 accessibility and usability requirements at their own expense. Any electronic information technology that is ultimately obtained by HHS for its use, development, or maintenance must meet Section 508 accessibility and usability standards. Past experience has demonstrated that it can be costly for solution-providers to “retrofit” solutions if remediation is later needed. The HHS Section 508 Evaluation Product Assessment Template, available at http://www.hhs.gov/od/vendors/index.html, provides a useful roadmap for developers to review. It is a simple, web-based checklist utilized by HHS officials to allow vendors to document how their products do or do not meet the various Section 508 requirements.

4. Functionality/Accuracy—A Submission may be disqualified if the application fails to function as expressed in the description provided by the user, or if the application provides inaccurate or incomplete information.

5. Security—Submissions must be free of malware. Contestant agrees that the ONC may conduct testing on the app to determine whether malware or other security threats may be present. ONC may disqualify the app if, in ONC's judgment, the app may damage government or others' equipment or operating environment.

Additional Information

Ownership of intellectual property is determined by the following:

• Each entrant retains title and full ownership in and to their submission. Entrants expressly reserve all intellectual property rights not expressly granted under the challenge agreement.

• By participating in the challenge, each entrant hereby irrevocably grants to Sponsor and Administrator a limited, non-exclusive, royalty free, worldwide, license and right to reproduce, publically perform, publically display, and use the Submission to the extent necessary to administer the challenge, and to publically perform and publically display the Submission, including, without limitation, for advertising and promotional purposes relating to the challenge.

Authority: 15 U.S.C. 3719.

Dated: August 20, 2012.
Farzad Mostashari,
National Coordinator for Health Information Technology.

[FR Doc. 2012-21023 Filed 8-24-12; 8:45 am]

BILLING CODE 4150-45-P